DEPARTMENT OF ENERGY

Federal Energy Regulatory Commission

18 CFR Part 35

[Docket No. RM15-23-000]

Collection of Connected Entity Data From Regional Transmission Organizations and Independent System Operators; Withdrawal

AGENCY: Federal Energy Regulatory Commission, Department of Energy.

ACTION: Withdrawal of notice of proposed rulemaking and termination of rulemaking proceeding.

SUMMARY: The Federal Energy Regulatory Commission (Commission) is withdrawing its proposal to amend its regulations to require each regional transmission organization and independent system operator to electronically deliver to the Commission, on an ongoing basis, data required from its market participants that would: Identify the market participants by means of a common alpha-numeric identifier; list their “Connected Entities;” and describe in brief the nature of the relationship of each Connected Entity. The Commission is also concurrently issuing a Notice of Proposed Rulemaking in Docket No. RM16-17-000, which supersedes this proposal.

DATES: The notice of proposed rulemaking published on September 29, 2015, at 80 FR 58382, is withdrawn as of July 28, 2016.

FOR FURTHER INFORMATION CONTACT: Jamie Marcos, Office of Enforcement, Federal Energy Regulatory Commission, 888 First Street NE., Washington, DC 20426, (202) 502-6628, Jamie.marcos@ferc.gov.

SUPPLEMENTARY INFORMATION:

1. On September 17, 2015, the Commission issued a Notice of Proposed Rulemaking (NOPR) in this proceeding.¹ For the reasons set forth below, we are exercising our discretion to withdraw the NOPR and terminate this rulemaking proceeding. The NOPR is superseded by the new proposal reflected in the concurrently issued NOPR on Data Collection for Analytics and Surveillance and Market-Based Rate Purposes (Data Collection NOPR).²

¹ Collection of Connected Entity Data from Regional Transmission Organizations and Independent System Operators, FERC Stats. & Regs. ¶ 32,711 (2015).

² Data Collection for Analytics and Surveillance and Market-Based Rate Purposes, 156 FERC¶ 61,045 (2016).

2. In the NOPR, the Commission proposed to amend its regulations to require each regional transmission organization and independent system operator to electronically deliver to the Commission, on an ongoing basis, data required from its market participants that would: (i) Identify the market participants by means of a common alpha-numeric identifier; (ii) list their “Connected Entities,” which included entities that have certain ownership, employment, debt, or contractual relationships with the market participants; and (iii) describe in brief the nature of the relationship of each Connected Entity. The Commission proposed to collect such information to assist with its screening and investigative efforts to detect market manipulation. The Commission has since developed a new proposal, as reflected in the concurrently issued Data Collection NOPR, which is substantially narrower than the proposal in the instant NOPR, and streamlines and consolidates the collection of market-based rate information with new information proposed to be collected for analytics and surveillance purposes. Among other things, in the Data Collection NOPR, the Commission proposes to require market-based rate sellers and certain market participants in Commission-jurisdictional organized electric markets to submit certain, defined information about their financial and legal connections to other entities. While the Data Collection NOPR proposes to collect similar information to that which was proposed in the NOPR in this proceeding, this new proposal presents substantial revisions, thereby superseding the proposal in the instant NOPR.

3. The Commission therefore withdraws the NOPR and terminates this rulemaking proceeding.

By direction of the Commission.
Dated: July 21, 2016.
Kimberly D. Bose,
Secretary.

[FR Doc. 2016-17853 Filed 7-27-16; 8:45 am]

BILLING CODE 6717-01-P